DEPARTMENT OF JUSTICE

Drug Enforcement Administration

[Docket No. DEA-392]

Importer of Controlled Substances Registration: SA INTL GMBH C/O., Sigma Aldrich Co., LLC

ACTION: Notice of registration.

SUMMARY: SA INTL GMBH C/O., Sigma Aldrich Co., LLC, applied to be registered as an importer of certain basic classes of controlled substances. The DEA grants SA INTL GMBH C/O., Sigma Aldrich Co., LLC, registration as an importer of these controlled substances.

SUPPLEMENTARY INFORMATION: By notice dated May 28, 2014, and published in the Federal Register on June 4, 2014, 79 FR 32319, SA INTL GMBH C/O., Sigma Aldrich Co., LLC., 3500 Dekalb Street, St. Louis, Missouri 63118, applied to be registered as an importer of a certain basic classes of controlled substances. In reference to the non-narcotic raw material, no comments or objections have been received. Comments and requests for hearings on applications to import narcotic raw material are not appropriate. 72 FR 3417 (January 25, 2007).

The Drug Enforcement Administration (DEA) has considered the factors in 21 U.S.C. 823, 952(a) and 958(a) and determined that the registration of SA INTL GMBH C/O., Sigma Aldrich Co., LLC., to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes of controlled substances listed:

Controlled substance | Schedule
Cathinone (1235) | I
Methcathinone (1237) | I
Mephedrone (1248) | I
N-Ethylamphetamine (1475) | I
Aminorex (1585) | I
Gamma Hydroxybutyric Acid (2010) | I
Methaqualone (2565) | I
Alpha-ethyltryptamine (7249) | I
Ibogaine (7260) | I
Lysergic acid diethylamide (7315) | I
Marihuana (7360) | I
Tetrahydrocannabinols (7370) | I
Mescaline (7381) | I
4-Bromo-2,5-dimethoxyamphetamine (7391) | I
4-Bromo-2,5-dimethoxyphenethylamine (7392) | I
4-Methyl-2,5-dimethoxyamphetamine (7395) | I
2,5-Dimethoxyamphetamine (7396) | I
3,4-Methylenedioxyamphetamine (7400) | I
N-Hydroxy-3,4-methylenedioxyamphetamine (7402) | I
3,4-Methylenedioxy-N-ethylamphetamine (7404) | I
3,4-Methylenedioxymethamphetamine (7405) | I
4-Methoxyamphetamine (7411) | I
Bufotenine (7433) | I
Diethyltryptamine (7434) | I
Dimethyltryptamine (7435) I |
Psilocybin (7437) | I
Psilocyn (7438) | I
1-[1-(2-Thienyl)cyclohexyl]piperidine (7470) | I
N-Benzylpiperazine (7493) | I
MDPV (7535) | I
Heroin (9200) | I
Normorphine (9313) | I
Etonitazene (9624) | I
Amphetamine (1100) | II
Methamphetamine (1105) | II
Methylphenidate (1724) | II
Amobarbital (2125) | II
Pentobarbital (2270) | II
Secobarbital (2315) | II
Glutethimide (2550) | II
Nabilone (7379) | II
Phencyclidine (7471) | II
Cocaine (9041) | II
Codeine (9050) | II
Oxycodone (9143) | II
Hydromorphone (9150) | II
Diphenoxylate (9170) | II
Ecgonine (9180) | II
Ethylmorphine (9190) | II
Hydrocodone (9193) | II
Levorphanol (9220) | II
Meperidine (9230) | II
Methadone (9250) | II
Morphine (9300) | II
Thebaine (9333) | II
Opium, powdered (9639) | II
Levo-alphacetylmethadol (9648) | II
Oxymorphone (9652) | II
Fentanyl (9801) | II

The company plans to import the listed controlled substances for sale to research facilities for drug testing and analysis.

In reference to drug codes 7360 and 7370, the company plans to import a synthetic cannabidiol and a synthetic tetrahydrocannabinol. No other activity for this drug code is authorized for this registration.

Dated: August 19, 2014.
Joseph T. Rannazzisi,
Deputy Assistant Administrator.

[FR Doc. 2014-20200 Filed 8-25-14; 8:45 am]

BILLING CODE 4410-09-P